DEPARTMENT OF JUSTICE

Notice of Lodging of Proposed Consent Decree Under the Comprehensive Environmental Response, Compensation, and Liability Act

On June 13, 2016, the Department of Justice lodged a proposed Consent Decree with the United States District Court for the District of Idaho in the lawsuit entitled United States v. Owyhee Construction, Inc. et al. Civil Action No. 3:15-cv-00088-EJL.

The United States initiated this civil action on behalf of the United States Environmental Protection Agency against Owyhee Construction, Inc. (“Owyhee”) and the Riverside Water and Sewer District (“RWSD”) (collectively “Settling Defendants”) pursuant to Section 107 of the Comprehensive Environmental Response, Compensation, and Liability Act, 42 U.S.C. 9607, to recover response costs incurred by the United States in connection with the release and threatened release of hazardous substances at the Orofino Asbestos Superfund Site in Orofino, Clearwater County, Idaho (the “Site”).

Under the terms of the proposed Consent Decree, the Settling Defendants will be responsible for making a lump sum payment of $475,000 and Owyhee will make payments totaling $48,000 to be paid quarterly in installments over two years as reimbursement for the past response costs incurred by the United States during the removal actions. The Consent Decree contains a covenant not to sue for past and certain future costs and response work at the Site under Sections 106 and 107 of CERCLA.

The publication of this notice opens a period for public comment on the proposed Consent Decree. Comments should be addressed to the Assistant Attorney General, Environment and Natural Resources Division, and should refer to United States v. Owyhee Construction, Inc. et al. D.J. Ref. No. 90-11-3-10860. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $5.50 (25 cents per page reproduction cost) payable to the United States Treasury.

Susan M. Akers,
Assistant Section Chief, Environmental Enforcement Section, Environment and Natural Resources Division.

[FR Doc. 2016-14321 Filed 6-16-16; 8:45 am]

BILLING CODE 4410-15-P